DEPARTMENT OF ENERGY

Senior Executive Service; Performance Review Board

AGENCY: U.S. Department of Energy.

ACTION: Designation of Performance Review Board Chair.

SUMMARY: This notice provides the Performance Review Board Chair designee for the Department of Energy.

DATES: This appointment is effective as of September 30, 2011.

Susan F. Beard

Issued in Washington, DC, November 2, 2011.
Sarah J. Bonilla,
Director, Office of Human Capital Management.

[FR Doc. 2011-29465 Filed 11-14-11; 8:45 am]

BILLING CODE 6450-01-P